DEPARTMENT OF COMMERCE

National Oceanic and Atmospheric Administration

50 CFR Part 622

[Docket No. 160426363-7275-02]

RTID 0648-XA879

Coastal Migratory Pelagic Resources of the Gulf of Mexico and Atlantic Region; 2020-2021 Commercial Hook-and-Line Closure for King Mackerel in the Gulf of Mexico Southern Zone

AGENCY: National Marine Fisheries Service (NMFS), National Oceanic and Atmospheric Administration (NOAA), Commerce.

ACTION: Temporary rule; closure.

SUMMARY: NMFS implements an accountability measure (AM) to close the hook-and-line component of the commercial sector for king mackerel in the Gulf of Mexico (Gulf) southern zone. This closure is necessary to protect the Gulf king mackerel resource.

DATES: This temporary rule is effective from 12:01 a.m., local time, on February 22, 2021, through June 30, 2021.

FOR FURTHER INFORMATION CONTACT: Kelli O'Donnell, NMFS Southeast Regional Office, telephone: 727-824-5305, email: kelli.odonnell@noaa.gov.

SUPPLEMENTARY INFORMATION: The fishery for coastal migratory pelagic fish in the Gulf includes king mackerel, Spanish mackerel, and cobia, and is managed under the Fishery Management Plan for the Coastal Migratory Pelagic Resources of the Gulf of Mexico and Atlantic Region (FMP). The FMP was prepared by the Gulf of Mexico and South Atlantic Fishery Management Councils and is implemented by NMFS under the authority of the Magnuson-Stevens Fishery Conservation and Management Act (Magnuson-Stevens Act) through regulations at 50 CFR part 622. All weights for Gulf migratory group king mackerel (Gulf king mackerel) apply as either round or gutted weight.

The commercial sector for Gulf king mackerel is divided into western, northern, and southern zones. The southern zone encompasses an area of the exclusive economic zone (EEZ) off Collier and Monroe Counties in south Florida. The southern zone includes the EEZ south of a line extending due west from the boundary of Lee and Collier Counties on the Florida west coast, and south of a line extending due east from the boundary of Monroe and Miami-Dade Counties on the Florida east coast (50 CFR 622.369(a)(1)(iii)).

The commercial annual catch limit (ACL) for Gulf king mackerel is divided into separate ACLs for the hook-and-line and run-around gillnet components of the commercial sector. The commercial hook-and-line quota (equivalent to the commercial hook-and-line ACL) for Gulf king mackerel in the southern zone is 575,400 lb (260,997 kg) for the current fishing year of July 1, 2020, through June 30, 2021 (50 CFR 622.384(b)(1)(iii)(A)).

Regulations at 50 CFR 622.388(a)(1) require NMFS to close any component of the king mackerel commercial sector when its applicable quota has been reached or is projected to be reached by filing a notification with the Office of the Federal Register. NMFS has determined the 2020-2021 hook-and-line commercial quota for Gulf king mackerel in the southern zone will be reached by February 22, 2021. Accordingly, the hook-and-line component of the commercial sector for Gulf king mackerel in the southern zone is closed from February 22, 2021, through the end of the fishing year on June 30, 2021. The commercial hook-and-line component for Gulf king mackerel in the southern zone will reopen on July 1, 2021.

NMFS has also determined that the Gulf king mackerel commercial quota for vessels using run-around gillnet gear in the southern zone was reached on January 28, 2021, and therefore on that date, NMFS closed the southern zone to commercial king mackerel fishing using run-around gillnet gear (86 FR 7815, February 2, 2021). Accordingly, all commercial fishing for Gulf king mackerel in the southern zone is closed effective at 12:01 a.m. local time on February 22, 2021. The commercial run-around gillnet component for Gulf king mackerel in the southern zone will reopen at 6 a.m. local time on January 18, 2022.

A person aboard a vessel that has a valid Federal commercial permit for king mackerel may continue to retain king mackerel under the recreational bag and possession limits specified in 50 CFR 622.382(a)(1)(ii) and (a)(2), as long as the recreational sector for Gulf king mackerel is open (50 CFR 622.384(e)(1)).

During the commercial closure, king mackerel caught with hook-and-line gear from the closed zone may not be purchased or sold, including those harvested under the recreational bag and possession limits. This prohibition does not apply to king mackerel caught with hook-and-line gear from the closed zone that were harvested, landed ashore, and sold prior to the closure and were held in cold storage by a dealer or processor (50 CFR 622.384(e)(2)).

Classification

NMFS issues this action pursuant to section 305(d) of the Magnuson-Stevens Act. This action is required by 50 CFR 622.388(a)(1), which was issued pursuant to section 304(b) of the Magnuson-Stevens Act, and is exempt from review under Executive Order 12866.

Pursuant to 5 U.S.C. 553(b)(B), there is good cause to waive prior notice and an opportunity for public comment on this action, as notice and comment is unnecessary and contrary to the public interest. Such procedures are unnecessary because the regulations associated with the commercial quota and associated AM for Gulf king mackerel have already been subject to notice and public comment, and all that remains is to notify the public of the closure. Prior notice and opportunity for public comment on this action is contrary to the public interest because of time required to provide notice and an opportunity for public comment. There is a need to immediately implement the closure to protect the Gulf king mackerel resource, because the capacity of the fishing fleet allows for rapid harvest of the commercial quota, and any delay in the closure could result in the commercial quota being exceeded.

For the aforementioned reasons, there is good cause under 5 U.S.C. 553(d)(3) to waive the 30-day delay in effectiveness of this action.

Authority: 16 U.S.C. 1801 et seq.

Dated: February 12, 2021.
Jennifer M. Wallace,
Acting Director, Office of Sustainable Fisheries, National Marine Fisheries Service.

[FR Doc. 2021-03351 Filed 2-16-21; 4:15 pm]

BILLING CODE 3510-22-P